DEPARTMENT OF DEFENSE

Department of the Army

Army Science Board Partially Closed Meeting Notice

AGENCY: Department of the Army, DoD.

ACTION: Notice of a partially closed meeting.

SUMMARY: Pursuant to the Federal Advisory Committee Act of 1972 (5 U.S.C., Appendix, as amended), the Government in the Sunshine Act of 1976 (U.S.C. 552b, as amended) and 41 Code of Federal Regulations (CFR) § 102-3.140 through 160, the Department of the Army announces the following committee meeting:

Name of Committee: Army Science Board (ASB) Summer Voting Session.

Date: Wednesday, July 27 and Thursday, July 28, 2016.

Time:

Closed portion: 1330-1700 on July 27, 2016.

Open portion: 0900-1200 on July 28, 2016.

Location: Arnold and Mabel Beckman Center of the National Academies of Sciences and Engineering, 100 Academy Way, Irvine, CA 92617.

Purpose of Meeting: The purpose of the meeting is for all members of the Board and its subcommittees to meet and present five of six Fiscal Year 2016 (FY16) studies to the voting members for their consideration, deliberation, and vote.

Agenda: The board will present findings and recommendations for deliberation and vote on the following five FY16 studies:

The Military Benefits and Risks of the Internet of Things. This study is not classified and will be presented during the open portion of the meeting. The purpose of this study is to determine the advisability of the Army applying the commercial practice of networking civilian physical systems into a military analog of the “internet of things (IOT).” As IOT moves beyond the exchange of information in cyber space to the networking of operating systems of physical objects. It will apply and extend relevant findings and recommendations of the Army Science Board studies on cyber vulnerability and electronics countermeasures, the Navy Studies Board network vulnerability study, and the Defense Science Board cyber vulnerability study and autonomy study.

Robotic and Autonomous Systems-of-Systems Architecture. This study contains classified and unclassified material and will be presented in the open and closed portions of the meeting. The objective of this study is to identify the Army formations with the greatest potential to benefit from adoption of robotics and autonomous systems (RAS) technology in both the near term (7-10 years) and the long term (10-25 years). For each selected application, the study will define the benefits of RAS, considering such factors as cost, manpower reduction, survivability, and mission effectiveness. The study team will make maximum use of existing platforms available in the Army, other Services, or commercially.

Countering Enemy Indirect Fires, Target Acquisition Using Unmanned Aerial Systems, and Offensive Cyber/Electronic Warfare Capabilities. This study is classified and will be presented in the closed meeting. The purpose of this study is to conduct a thorough threat assessment of capabilities, both today and in the future, of various adversaries; examine existing and potential means to counter each element of indirect fire systems, to include target acquisition using unmanned aerial systems, and direction finding technologies; develop means to counter each element of the indirect fire systems and determine the effect of countering each element; determine the cost (manpower and materiel) and effectiveness of the counter to each element of the threat system; determine if modern means of engineering and manufacturing can correct the problems in many of today's munitions that cause them to become treaty prohibited; determine the cost-effectiveness of combining various counter means to threat systems; and propose the most cost-effective set of actions necessary to counter future enemy indirect fire capabilities.

Future Armor/Anti-Armor Competition. This study is classified and will be presented in the closed meeting. The study objective is to provide an independent assessment of current and future anti-armor weapons versus armored vehicles.

Army Efforts to Enhance Soldier and Team Performance. This study contains classified and unclassified material and will be presented in the open and closed portions of the meeting. This study will provide an independent assessment of current and future Soldier enhancement techniques the Army may adopt as long-term practices. It will look at the advances in biological, biomedical, and pharmaceutical technologies as they apply to the Army. The study will also analyze trends in the broader area of human enhancement for relevant application to future force capabilities, and consider individual, organizational, and cultural risks of application within the military. Finally, it may consider whether and how cultural values of foreign nations may facilitate the development and application of enhancements that the U.S. Government would see as more extreme or unethical.

FOR FURTHER INFORMATION CONTACT: Army Science Board, Designated Federal Officer, 2530 Crystal Drive, Suite 7098, Arlington, VA 22202; LTC Stephen K. Barker, the committee's Designated Federal Officer (DFO), at (703) 545-8652 or email: stephen.k.barker.mil@mail.mil, or Mr. Paul Woodward at (703) 695-8344 or email: paul.j.woodward2.civ@mail.mil.

Public's Accessibility to the Meeting: Pursuant to 5 U.S.C. 552b and 41 CFR 102-3.140 through 3.165, and the availability of space, the open portion of this meeting is open to the public. Seating is on a first-come basis. The Beckman Center is fully handicapped accessible. For additional information about public access procedures, contact LTC Stephen Barker at the telephone number or email address listed in the FOR FURTHER INFORMATION CONTACT section. The Department of the Army has determined that the closed portion of this meeting is properly closed in accordance with 5 U.S.C. 552b(c)(1), which permits Federal Advisory Committee meetings to be closed which are likely to “disclose matters that are (A) specifically authorized under criteria established by an Executive Order to be kept secret in the interest of national defense or foreign policy and (B) in fact properly classified pursuant to such Executive Order.”

SUPPLEMENTARY INFORMATION: Pursuant to 41 CFR 102-3.140d, the Committee is not obligated to allow the public to speak; however, interested persons may submit a written statement for consideration by the Subcommittees. Individuals submitting a written statement must submit their statement to the DFO at the address listed above. Written statements not received at least 10 calendar days prior to the meeting may not be considered by the Board prior to its scheduled meeting.

The DFO will review all timely submissions with the Board's executive committee and ensure they are provided to the specific study members as necessary before, during, or after the meeting. After reviewing written comments, the study chairs and the DFO may choose to invite the submitter of the comments to orally present their issue during a future open meeting.

The DFO, in consultation with the executive committee, may allot a specific amount of time for members of the public to present their issues for discussion.

Brenda S. Bowen,
Army Federal Register Liaison Officer.

[FR Doc. 2016-15901 Filed 7-5-16; 8:45 am]

BILLING CODE 5001-03-P